DEPARTMENT OF COMMERCE

International Trade Administration

[C-570-125]

Certain Vertical Shaft Engines Between 99cc and up to 225cc, and Parts Thereof, From the People's Republic of China: Postponement of Preliminary Determination in the Countervailing Duty Investigation

AGENCY: Enforcement and Compliance, International Trade Administration, Department of Commerce.

DATES: Applicable May 20, 2020.

FOR FURTHER INFORMATION CONTACT: Ajay Menon or Adam Simons, AD/CVD Operations, Office II, Enforcement and Compliance, International Trade Administration, U.S. Department of Commerce, 1401 Constitution Avenue NW, Washington, DC 20230; telephone: (202) 482-1993 or (202) 482-6172, respectively.

SUPPLEMENTARY INFORMATION:

Background

On April 7, 2020, the Department of Commerce (Commerce) initiated a countervailing duty (CVD) investigation of imports of certain vertical shaft engines between 99cc and up to 225cc, and parts thereof, from the People's Republic of China.¹ Currently, the preliminary determination is due no later than June 11, 2020.

¹ See Certain Vertical Shaft Engines between 99cc and up to 225cc, and Parts Thereof From the People's Republic of China: Initiation of Countervailing Duty Investigation, 85 FR 20667 (April 14, 2020) (Initiation Notice).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.²

² See 19 CFR 351.205(e).

On May 12, 2020, the petitioner ³ submitted a timely request that Commerce postpone the preliminary CVD determination.⁴ The petitioner requests postponement of the preliminary determination because the current deadline does not provide adequate time for Commerce to receive questionnaire responses and issue deficiency questionnaires, especially in light of the global COVID-19 pandemic. Furthermore, the petitioner stated that additional time will permit interested parties sufficient time to develop the record in this investigation.⁵

³ The petitioner is Briggs and Stratton Corporation.

⁴ See Petitioner's Letter, “Certain Vertical Shaft Engines Between 99cc and 225cc, and Parts Thereof, from China: Request to Postpone Preliminary Determination,” dated May 12, 2020.

⁵ Id.

In accordance with 19 CFR 351.205(e), the petitioner has stated the reasons for requesting a postponement of the preliminary determination, and Commerce finds no compelling reason to deny the request. Therefore, in accordance with section 703(c)(1)(A) of the Act, Commerce is postponing the deadline for the preliminary determination to August 17, 2020, the next business day after 130 days after the date on which this investigation was initiated.⁶ Pursuant to section 705(a)(1) of the Act and 19 CFR 351.210(b)(1), the deadline for the final determination of this investigation will continue to be 75 days after the date of the preliminary determination.

⁶ Postponing the preliminary determination to 130 days after initiation would place the deadline on Saturday, August 15, 2020. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: May 14, 2020.
Jeffrey I. Kessler,
Assistant Secretary for Enforcement and Compliance.

[FR Doc. 2020-10901 Filed 5-19-20; 8:45 am]

BILLING CODE 3510-DS-P